DEPARTMENT OF ENERGY

Energy Information Administration

American Statistical Association Committee on Energy Statistics

AGENCY: Department of Energy.

ACTION: Notice of open meeting.

SUMMARY: This notice announces a meeting of the American Statistical Association Committee on Energy Statistics, a utilized Federal Advisory Committee. The Federal Advisory Committee Act (Public Law 92-463, 86 Stat. 770) requires that public notice of these meetings be announced in the Federal Register.

Date and Time:

Thursday, November 2, 2000, 8:30 am-4:45 pm; Friday, November 3, 2000, 8:30 am-12:00 noon.

Place: U. S. Department of Energy, Forrestal Building, 1000 Independence Ave., S.W., Washington, DC 20585.

FOR FURTHER INFORMATION CONTACT: Mr. William I. Weinig, EI-70, Committee Liaison, Energy Information Administration, U.S. Department of Energy, Washington, DC 20585, Telephone: (202) 426-1101. Alternately, Mr. Weinig may be contacted by email at william.weinig@eia.doe.gov or by FAX at (202) 426-1083.

Purpose of Committee: To advise the Department of Energy, Energy Information Administration (EIA), on EIA technical statistical issues and to enable the EIA to benefit from the Committee's knowledge concerning other energy-related statistical matters.

Tentative Agenda

Thursday, November 2, 2000

A. Opening Remarks by the Chair, Room 8E-089

B. Major Topics

1. Opening Remarks by EIA's Acting Administrator, Room 8E-089

2. A Briefing: EIA's New Approach to Long-Term International Energy Forecasting, 8E-089

3. Some Challenges in Long-Term International Energy Modeling, Room GH-019

4. Implementing a New Sampling Technique for Monthly Electric Power Data Collections , GH-027

5. Survey Design for Residential and Commercial Consumption Surveys, GH-035

6. Summary of the Previous Three Break-Out Sessions by EIA Presenters, 8E-089

7. New Ways to Process, Store and Make EIA Data Accessible, 8E-089

8. Estimating Procedures to Reduce Data Reporting Lags, 8E-089

9. Interactive Session: Cognitive Testing of Potential EIA Graphic Standards Redesign, 8E-089

Friday, November 3, 2000

C. Major Topics

1. Monte Carlo Analysis of Uncertainty in CO2 Emissions, Room 8E-089

2. Optimization and Visualization of the North American Eastern Interconnect Power Market, Room 8E-089

3. The Feasibility Study for Surveying Industrial Natural Gas Consumers, Room 8E-089

4. A Briefing: Winter Energy Assessment for the U.S., 8E-089

5. Public Comment, 8E-089

D. Closing Remarks by the Chair, 8E-089

Public Participation: The meeting is open to the public. The Chair of the Committee is empowered to conduct the meeting in a fashion that will facilitate the orderly conduct of business. Written statements may be filed with the committee either before or after the meeting. If there are any questions, please contact Mr. William I. Weinig, EIA Committee Liaison, at the address or telephone number listed above.

Minutes: Available for public review and copying at the Public Reading Room, (Room 1E-190), 1000 Independence Avenue, SW, Washington, DC 20585, (202) 586-3142, between the hours of 9 a.m. and 4 p.m., Monday through Friday.

Issued at Washington, DC, on October 11, 2000.
Rachel M. Samuel,
Deputy Advisory Committee Management Officer.

[FR Doc. 00-26457 Filed 10-13-00; 8:45 am]

BILLING CODE 6450-01-P